NATIONAL SCIENCE FOUNDATION

National Science Board; Sunshine Act Meetings; Notice

The National Science Board, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

Agency Holding Meeting: National Science Board.

Date and Time: Wednesday, December 9, 2009, at 8 a.m.; and Thursday, December 10, 2009 at 8 a.m.

Place: National Science Foundation, 4201 Wilson Blvd., Rooms 1235 and 1295, Arlington, VA 22230. All visitors must report to the NSF visitor desk at the 9th and N. Stuart Streets entrance to receive a visitor's badge. Public visitors must arrange for a visitor's badge in advance. Call 703-292-7000 to request your badge, which will be ready for pick-up at the visitor's desk on the day of the meeting.

Status: Some portions open, some portions closed.

Open Sessions:

December 9, 2009

8 a.m.-8:05 a.m.

8:05 a.m.-10:30 a.m.

8:05 a.m.-10:15 a.m.

10:30 a.m.-12 p.m.

11:30 a.m.-12 p.m.

1 p.m.-2 p.m.

2 p.m.-3:30 p.m.

December 10, 2009

8 a.m.-10:10 a.m.

1 p.m.-2:45 p.m.

Closed Sessions:

December 9, 2009

10:15 a.m.-10:30 a.m.

10:30 a.m.-11:30 a.m.

December 10, 2009

10:10 a.m.-10:30 a.m.

10:40 a.m.-11:10 a.m.

11:15 a.m.-11:30 a.m.

11:30 a.m.-12:00 p.m.

Agency Contact: Kim Silverman, ksilverm@nsf.gov, (703) 292-7000, http://www.nsf.gov/nsb/.

Matters to be Discussed:

Wednesday, December 9, 2009

Open Session: 8 a.m.-8:05 a.m., Room 1235.

• Chairman's Remarks.

Committee on Programs and Plans (CPP)

Open Session: 8:05 a.m.-10:30 a.m., Room 1235.

• Approval of August 2009 and September 2009 CPP Minutes.

• Committee Chairman's Remarks.

○ Proposed Revision—Transmitting DRB Packages to NSB.

• Discussion Items: Proposed Revisions to “Annual Timeline for Integration of Board MREFC Process with NSF Budget Process” (September 2006) and Proposed Modification to “Setting Priorities for Large Research Facility Projects supported by the NSF” (September 2005).

• NSB Information Item: National Ecological Observatory Network.

• NSB Information Item: Plans for Integration and Recompetition of the EAR Solid Earth Deformation Facilities.

• CPP Subcommittee on Polar Issues (SOPI):

○ SOPI Chairman's Remarks.

○ Director's Report—Office of Polar Programs (OPP).

○ Arctic Sea Ice update.

○ NSF at the United Nations Framework Convention on Climate Change (UNFCCC): Conference of the Parties (COP15) in Copenhagen, Denmark, December 2009.

○ Report from Board Members on Travel to the Antarctic.

○ NSB Information Item: IceCube O&M Renewal.

Committee on Programs and Plans (CPP)

Closed Session: 10:30 a.m.-11:30 a.m., Room 1235.

• Committee Chairman's Remarks.

• Subcommittee on Polar Issues (SOPI):

○NSB Information Item: Arctic Logistics in Support of Research Contract.

• NSB Action Item: Award for the Operations of the Cornell High Energy Synchrotron Source (CHESS) and the Cornell Electron Storage Ring (CESR).

Committee on Audit and Oversight (A&O)

Open Session: 8:05 a.m.-10:15 a.m., Room 1295.

• Approval of Minutes:

○ August 6, 2009 Meeting.

○ November 6, 2009 Closed Teleconference.

• Committee Chairman's Opening Remarks.

• Report of the Advisory Committee on GPRA Performance Assessment

(http://www.nsf.gov/publications/pub_summ.jsp?ods_key=nsf09068).

• FY2009 NSF Financial Audit Report (http://www.nsf.gov/publications/pub_summ.jsp?ods_key=nsf10001).

• Chief Financial Officer's Update including ARRA Status Update.

• Inspector General's ARRA Update.

• OIG Audit Plan for 2010.

• Other NSF Management Updates.

○ Human Resource Management at the National Science Foundation.

○ Report to the Board on “NSF 2013”.

• Committee Chairman's Closing Remarks.

Committee on Audit and Oversight (A&O)

Closed Session: 10:15 a.m.-10:30 a.m., Room 1295.

• Contract Administration Issues.

Committee on Education and Human Resources (CEH)

Open Session: 10:30 a.m.-12 p.m., Room 1295.

• Approval of August 2009 Minutes.

• Preparing the Next Generation of STEM Innovators.

○ White Paper Draft Outline.

○ Discussion of Recommendations and Next Steps.

• Decadal Survey Update.

• NSF Merit Review Broader Impacts Criterion.

○ Presentation of Committee Member Concerns.

○ Presentation on Broader Impacts Reviews in Chemistry and Geosciences.

○ Discussion.

• Other Committee Business.

Task Force on the NSB 60th Anniversary

Open Session: 11:30 a.m.-12 p.m., Room 1235.

• Approval of Minutes for the August 5, 2009 Meeting.

• Task Force Chairman's Remarks.

• Updates on NSB/NSF Anniversary Activities.

Committee on Science and Engineering Indicators (SEI)

Open Session: 1 p.m.-2 p.m., Room 1235.

• Approval of August 2009 Minutes.

• Committee Chairman's Remarks.

• Progress Report on Science and Engineering Indicators 2010.

• Science and Engineering Indicators 2010 Companion Piece.

• Science and Engineering Indicators 2010 Rollout.

• Science and Engineering Indicators 2010 Outreach.

• Chairman's Summary.

Executive Committee

Open Session: 2 p.m.-3:30 p.m., Room 1235.

• Approval of the September 2009 Minutes.

• Committee Chairman's Remarks.

• Discussion and Recommendation to Full Board of FY2010 Priorities.

• New Business.

Thursday, December 10, 2009

Committee on Strategy and Budget (CSB)

Open Session: 8 a.m.-10:10 a.m., Room 1235.

• Approval of Minutes from September 2009 Meeting.

• Committee Chairman's Remarks.

• Subcommittee on Facilities (SCF).

○ Chairman's Remarks.

○ Discussion of the NSF Facilities Portfolio Review Workplan.

• Update on FY 2010 Appropriation.

• Status of NSF Strategic Plan.

• NSF Report on ARRA Spending.

• Other Committee Business.

Committee on Strategy and Budget (CSB)

Closed Session: 10:10 a.m.-10:30 a.m., Room 1235.

• Status of FY 2011 Budget Request/Passback.

• NSB Budget.

Executive Committee

Closed Session: 10:40 a.m.-11:10 a.m., Room 1235.

• Approval of the October 19, 2009 Closed Session Minutes.

• Approval of the November 4, 2009 Closed Session Minutes.

• Committee Chairman's Remarks.

• Personnel Matters.

Plenary Executive Closed

Closed Session: 11:15 a.m.-11:30 a.m., Room 1235.

• Approval of Plenary Executive Closed Minutes, September 2009.

• Approval of Honorary Awards Recipients.

Plenary Closed

Closed Session: 11:30 a.m.-12 p.m., Room 1235.

• Approval of Plenary Closed Minutes, September 2009.

• Awards and Agreements.

• Closed Committee Reports.

Plenary Open

Open Session: 1 p.m.-2:45 p.m., Room 1235.

• Approval of Plenary Open Minutes, September 2009.

• Chairman's Report.

• Director's Report.

• Open Committee Reports.

Ann Ferrante,
Technical Writer/Editor.

[FR Doc. E9-28670 Filed 11-25-09; 4:15 pm]

BILLING CODE 7555-01-P